BUREAU OF CONSUMER FINANCIAL PROTECTION

[Docket No. CFPB-2019-0026]

Agency Information Collection Activities: Comment Request

AGENCY: Bureau of Consumer Financial Protection.

ACTION: Notice and request for comment.

SUMMARY: In accordance with the Paperwork Reduction Act of 1995 (PRA), the Bureau of Consumer Financial Protection (Bureau) is requesting to renew with change an existing information collection titled, “Policy to Encourage Trial Disclosure Programs.”

DATES: Written comments are encouraged and must be received on or before July 12, 2019 to be assured of consideration.

ADDRESSES: You may submit comments, identified by the title of the information collection, OMB Control Number (see below), and docket number (see above), by any of the following methods:

• Electronic: Go to http://www.regulations.gov. Follow the instructions for submitting comments.

• Email: PRA_Comments@cfpb.gov. Include Docket No. CFPB-2019-0026 in the subject line of the message.

• Mail: Comment Intake, Bureau of Consumer Financial Protection (Attention: PRA Office), 1700 G Street NW, Washington, DC 20552.

• Hand Delivery/Courier: Comment Intake, Bureau of Consumer Financial Protection (Attention: PRA Office), 1700 G Street NW, Washington, DC 20552.

Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Policy to Encourage Trial Disclosure Programs.

OMB Control Number: 3170-0039.

Type of Review: Revision of a currently approved information collection.

Affected Public: Businesses and other for-profit entities.

Estimated Number of Respondents: 10.

Estimated Total Annual Burden Hours: 100.

Abstract In subsection 1032(e) of the Dodd-Frank Act, 12 U.S.C. 5532(e), Congress gave the Bureau authority to provide certain legal protections to companies to conduct trial disclosure programs. This authority can be used to help further the Bureau's statutory objective, stated in subsection 1021(b)(5) of the Act, to “facilitate access and innovation” in the “markets for consumer financial products and services.” In accordance with this authority, the Bureau published its Policy to Encourage Trial Disclosure Programs (Policy) on October 10, 2013 (78 FR 64389). Under the Policy, an application for permission to conduct a trial disclosure program should include certain information. A supporting statement for the existing information collections under this control number may be found here at https://www.reginfo.gov/public/do/PRAViewDocument?ref_nbr=201605-3170-011. In addition the Bureau has published a notice in the Federal Register on September 10, 2018, 83 FR 45574 proposing revisions to the Policy (Proposal). The Proposal and comments thereon may be viewed at https://www.regulations.gov/docket?D=CFPB-2018-0023. The Bureau is currently reviewing those comments in as it contemplates any changes or revisions to the Proposal.

Request for comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: May 7, 2019.
Darrin A. King,
Paperwork Reduction Act Officer, Bureau of Consumer Financial Protection.

[FR Doc. 2019-09720 Filed 5-10-19; 8:45 am]

BILLING CODE 4810-AM-P